NATIONAL AERONAUTICS AND SPACE ADMINISTRATION

[Notice (08-051)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council. The agenda for the meeting includes updates from each of the Council committees, including discussion and deliberation of potential recommendations. The Council committees address NASA interests in the following areas: Aeronautics, Audit and Finance, Space Exploration, Human Capital, Science, and Space Operations.

DATES: Thursday, July 10, 2008, 8 a.m. to 4 p.m.

ADDRESSES: Kingston Room, Radisson Hotel Cleveland Airport, 25070 Country Club Boulevard, North Olmsted, OH 44070.

FOR FURTHER INFORMATION CONTACT: Mr. Paul A. Iademarco, Designated Federal Official, National Aeronautics and Space Administration, Washington, DC 20546, 202/358-1318.

SUPPLEMENTARY INFORMATION: The meeting will be open to the public up to the seating capacity of the room. It is imperative that the meeting be held on this date to accommodate the scheduling priorities of the key participants.

Dated: June 5, 2008.
P. Diane Rausch,
Advisory Committee Management Officer, National Aeronautics and Space Administration.

[FR Doc. E8-13094 Filed 6-10-08; 8:45 am]

BILLING CODE 7510-13-P